DEPARTMENT OF THE INTERIOR

Bureau of Land Management

[NM-932-1430-ET; NMNM 25016-30]

Public Land Order No. 7470; Partial Revocation of Executive Order Dated April 17, 1926; New Mexico

AGENCY: Bureau of Land Management, Interior.

ACTION: Public land order.

SUMMARY: This order partially revokes an Executive order insofar as it affects 39.91 acres of land withdrawn for the Bureau of Land Management's Public Water Reserve No. 107. The land does not meet the criteria for a public water reserve. This action will open the land to surface entry and nonmetalliferous mining. The Executive order did not close any of the land to metalliferous mining or to mineral leasing.

EFFECTIVE DATE: January 8, 2001.

FOR FURTHER INFORMATION CONTACT: Jeanette Espinosa, BLM New Mexico State Office, 1474 Rodeo Road, Santa Fe, New Mexico 87505, 505-438-7597.

By virtue of the authority vested in the Secretary of the Interior by section 204 of the Federal Land Policy and Management Act of 1976, 43 U.S.C. 1714 (1994), it is ordered as follows:

1. The Executive Order dated April 17, 1926, which established Public Water Reserve No. 107, is hereby revoked insofar as it affects the following described land:

New Mexico Principal Meridian

T. 20 S., R. 28 E.,

Sec. 1, lot 1.

The area described contains 39.91 acres in Eddy County.

2. At 10 a.m. on January 8, 2001, the land described in paragraph 1 will be opened to the operation of the public land laws generally, subject to valid existing rights, the provisions of existing withdrawals, other segregations of record, and the requirements of applicable law. All valid applications received at or prior to 10 a.m. on January 8, 2001, shall be considered as simultaneously filed at that time. Those received thereafter shall be considered in the order of filing.

3. At 10 a.m. on January 8, 2001, the land described in paragraph 1 will be opened to nonmetalliferous mineral location and entry under the United States mining laws, subject to valid existing rights, the provisions of existing withdrawals, other segregations of record, and the requirements of applicable law. Appropriation of any of the land for nonmetalliferous minerals under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: November 14, 2000.
Sylvia V. Baca,
Assistant Secretary of the Interior.

[FR Doc. 00-31183 Filed 12-6-00; 8:45 am]

BILLING CODE 4310-FB-P